SMALL BUSINESS ADMINISTRATION

13 CFR Parts 101 and 123

RIN 3245-AF42

Administration and Disaster Loan Program

AGENCY: U.S. Small Business Administration (SBA).

ACTION: Direct final rule; correction.

SUMMARY: On October 31, 2006, SBA published in the Federal Register a direct final rule to amend SBA regulations to reflect the new structure of the Office of Disaster Assistance following an office reorganization (71 FR 63674). In the preamble to the regulation, SBA stated in the DATES section that this rule is effective November 30, 2006 without further action, unless adverse comment is received on or before the effective date. If adverse comment is received, SBA will publish a timely withdrawal of the rule in the Federal Register. SBA is correcting the DATES caption for this direct final rule to clarify the timeframe for public comment, and to allow sufficient time for SBA to withdraw the rule if any significant adverse comments are received.

DATES: Effective November 9, 2006.

FOR FURTHER INFORMATION CONTACT: James E. Rivera, Deputy Associate Administrator for Disaster Assistance, 409 3rd Street, SW., Washington, DC 20416; (202) 205-6734; fax (202) 205-7728; or e-mail James.Rivera@sba.gov.

SUPPLEMENTARY INFORMATION: In FR Doc. E6-18246 appearing on page 63674 in the Federal Register on Tuesday, October 31, 2006, the following correction is made:

On page 63674, in the third column the DATES heading is corrected to read as follows:

DATES: This rule is effective December 15, 2006 without further action, unless significant adverse comment is received by November 30, 2006. If significant adverse comment is received, SBA will publish a timely withdrawal of the rule in the Federal Register.

(Authority: 15 U.S.C. 634)

Dated: November 1, 2006.
Roger B. Garland,
Acting Associate Administrator for Disaster Assistance.

[FR Doc. E6-18712 Filed 11-8-06; 8:45 am]

BILLING CODE 8025-01-P